DEPARTMENT OF THE INTERIOR

Geological Survey

Announcement of National Geospatial Advisory Committee Meeting

AGENCY: U. S. Geological Survey, Interior.

ACTION: Notice of meeting.

SUMMARY: The National Geospatial Advisory Committee (NGAC) will meet on April 15-16, 2008 in the 2nd Floor Boardroom of the American Institute of Architects Building, 1735 New York Avenue, NW., Washington, DC 20006. The NGAC, which is comprised of representatives from governmental, private sector, non-profit, and academic organizations, has been established to advise the Chair of the Federal Geographic Data Committee on management of Federal geospatial programs, the development of the National Spatial Data Infrastructure, and the implementation of Office of Management and Budget (OMB) Circular A-16. Topics to be addressed at the meeting include:

—Briefings on current Federal geospatial activities

—Review and discussion of NGAC study topics

—Review and discussion of NGAC subcommittee assignments

The meeting will include an opportunity for public comment during the morning of April 16. Comments may also be submitted to the NGAC in writing. While the meeting will be open to the public, seating may be limited due to room capacity.

DATES: The meeting will be held on April 15-16, from 1 p.m. to 5 p.m. on April 15, and from 8:30 a.m. to 5 p.m. on April 16.

FOR FURTHER INFORMATION CONTACT: John Mahoney, U.S. Geological Survey (206-220-4621).

SUPPLEMENTARY INFORMATION: Meetings of the National Geospatial Advisory Committee are open to the public. Additional information about the NGAC and the meeting are available at http://www.fgdc.gov/ngac.

Dated: March 25, 2008.
Ivan DeLoatch,
Staff Director, Federal Geographic Data Committee.

[FR Doc. E8-6437 Filed 3-28-08; 8:45am]

BILLING CODE 4311-AM-M